OVERSEAS PRIVATE INVESTMENT CORPORATION

September 19, 2000 Board of Directors Meeting; Sunshine Act Meeting

Time and Date: Tuesday, September 19, 2000, 1:00 PM (Open Portion); 1:30 PM (Closed Portion).

Place: Offices of the Corporation, Twelfth Floor Board Room, 1100 New York Avenue, N.W., Washington, D.C.

Status: Meeting OPEN to the Public from 1:00 PM to 1:30 PM Closed portion will commence at 1:30 PM (approx.)

Matters to be Considered:

1. President's Report

2. Testimonial

3. Confirmation—Rod Morris

4. Approval of June 13, 2000 Minutes (Open Portion)

5. Amendment of the OPIC Bylaws

Further Matters to be Considered: (Closed to the Public 1:30 PM)

1. Proposed FY 2002 Budget Proposal and Allocation of Retained Earnings

2. Finance Project in Costa Rica

3. Finance Project in Trinidad and Tobago

4. Finance Project in Bulgaria

5. Insurance Project in Philippines

6. Insurance Project in Colombia

7. Approval of June 13, 2000 Minutes (Closed Portion)

8. Pending Major Projects

9. Reports

Contact Person for Information: Information on the meeting may be obtained from Connie M. Downs at (202) 336-8438.

Dated: September 5, 2000.
Connie M. Downs,
OPIC Corporate Secretary.

[FR Doc. 00-23069 Filed 9-6-00; 8:45 am]

BILLING CODE 3210-01-M